DEPARTMENT OF TRANSPORTATION

Pipeline and Hazardous Materials Safety Administration

Hazardous Materials: Notice of Applications for Modifications to Special Permit

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before January 27, 2021.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with part 107 of the Federal hazardous materials transportation law (49 U.S.C. 5117(b); 49 CFR 1.53(b)).

Issued in Washington, DC, on January 5, 2021.
Donald P. Burger,
Chief, General Approvals and Permits Branch.

Application No. | Applicant | Regulation(s) affected | Nature of the special permits thereof
Special Permits Data
3121-M | Department of Defense (Military Surface Deployment & Distribution Command) | 172.101(i) | To modify the special permit to correct certain references and practices to more accurately align with current regulations and practices. (mode 1)
7765-M | Cobham Mission Systems Orchard Park Inc | 173.302a(a)(1) | To modify the special permit to remove part numbers which are now covered under a different permit and to update maximum service pressure of authorized cylinders. (modes 1, 2, 3, 4)
10631-M | Department of Defense (Military Surface Deployment & Distribution Command) | 173.243, 173.244 | To modify the special permit to correct certain references and practices to more accurately align with current regulations and practices. (mode 1)
10922-M | FIBA Technologies, Inc | 173.302(a), 180.205, 180.207(d)(1), 172.302(c) | To modify the special permit to authorize a 10-year retest for ISO cylinders and tubes transporting certain hazardous materials. (modes 1, 2, 3, 4, 5)
12116-M | Proserv UK Ltd | 173.201, 173.301(f), 173.302a, 173.304a | To modify the special permit to authorize a new design and corrosion resistant cylinder. (modes 1, 2, 3, 4)
14782-M | Southern States, LLC | 173.304a | To modify the special permit to act as an approval and to comply with the International Maritime Dangerous Goods Code. (modes 1, 2, 3, 4, 5)
15483-M | National Aeronautics and Space Administration | 173.302a | To modify the special permit to authorize a different 2.2 gas to be incorporated into the permit. (modes 1, 2, 3, 4, 5)
16074-M | Welker, Inc | 173.201, 173.202, 173.203 | To modify the special permit to clarify the volume capacity of the approved pressure vessels. (modes 1, 2, 3, 4)
20706-M | Southern States, LLC | 172.301(c), 173.304(a) | To modify the special permit to authorize the transportation in commerce of compressed sulfur hexafluoride gas in non-DOT specification packaging in accordance with IMDG Regulations. (modes 1, 2, 3, 4)
21018-M | Packaging and Crating Technologies, LLC | 172.200, 172.300, 172.400, 172.600, 172.700(a), 173.185(b), 173.185(c), 173.185(f) | To modify the special permit to authorize four new package sizes. (modes 1, 2, 3)
21063-M | Cobham Mission Systems Orchard Park Inc | 173.302(a)(1) | To modify the special permit to decrease the test pressure. (modes 1, 2, 3, 4)

[FR Doc. 2021-00401 Filed 1-11-21; 8:45 am]

BILLING CODE 4909-60-P